DEPARTMENT OF STATE

[Public Notice 6874]

In the Matter of the Designation of al-Qa'ida in the Arabian Peninsula (AQAP), Also Known as al-Qa'ida of Jihad Organization in the Arabian Peninsula, Also Known as Tanzim Qa'idat al-Jihad fi Jazirat al-Arab, Also Known as al-Qa'ida Organization in the Arabian Peninsula (AQAP), Also Known as al-Qa'ida in Yemen (AQY), Also Known as al-Qa'ida in the South Arabian Peninsula as a Specially Designated Global Terrorist Pursuant to Section 1(b) of Executive Order 13224, as Amended

Acting under the authority of and in accordance with section 1(b) of Executive Order 13224 of September 23, 2001, as amended by Executive Order 13268 of July 2, 2002, and Executive Order 13284 of January 23, 2003, I hereby determine that the organization known as al-Qa'ida in the Arabian Peninsula (AQAP), and also known as al-Qa'ida of Jihad Organization in the Arabian Peninsula, also known as Tanzim Qa'idat al-Jihad fi Jazirat al-Arab, also known as al-Qa'ida Organization in the Arabian Peninsula (AQAP), also known as al-Qa'ida in Yemen (AQY), also known as al-Qa'ida in the South Arabian Peninsula committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: December 14, 2009.
Hillary Rodham Clinton,
Secretary of State, Department of State.

[FR Doc. 2010-946 Filed 1-15-10; 8:45 am]

BILLING CODE 4710-10-P